DEPARTMENT OF VETERANS AFFAIRS

[OMB Control No. 2900-0455]

Proposed Information Collection Activity: Proposed Collection; Comment Request

AGENCY: Veterans Benefits Administration, Department of Veterans Affairs

ACTION: Notice

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed reinstatement, without change, of a previously approved collection for which approval has expired, and allow 60 days for public comment in response to the notice. This notice solicits comments for information needed to determine whether or not proprietary education institutions receiving Federal financial assistance are in compliance with the applicable civil rights statutes and regulations.

DATES: Written comments and recommendations on the proposed collection of information should be received on or before June 11, 2001.

ADDRESSES: Submit written comments on the collection of information to Nancy J. Kessinger, Veterans Benefits Administration (20S52), Department of Veterans Affairs, 810 Vermont Avenue, NW, Washington, DC 20420 or e-mail irmnkess@vba.va.gov. Please refer to “OMB Control No. 2900-0455” in any correspondence.

FOR FURTHER INFORMATION CONTACT: Nancy J. Kessinger at (202) 273-7079 or FAX (202) 275-5947.

SUPPLEMENTARY INFORMATION: Under the PRA of 1995 (Public Law 104-13; 44 U.S.C., 3501 “ 3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Equal Opportunity Compliance Review Report, VA Form 20-8734 and Supplement to Equal Opportunity Compliance Review Report, VA Form 20-8734a.

OMB Control Number: 2900-0455.

Type of Review: Reinstatement, without change, of a previously approved collection for which approval has expired.

Abstract: Executive Order 12250, Leadership and Coordination of Nondiscrimination Laws, delegated authority to the Attorney General to coordinate the implementation and enforcement by Executive agencies of various equal opportunity laws that prohibit discrimination in programs and activities that receive Federal financial assistance. Government-wide guidelines issued by the Department of Justice (DOJ) in 29 CFR 42.406 instruct funding agencies to “provide for the collection of data and information from applicants for and recipients of Federal assistance sufficient to permit effective enforcement of Title VI.” Executive Order 12250 extended the delegation to cover Title IX of the Education Amendments of 1972, and Section 504 of the Rehabilitation Act of 1973, as amended.

VA's regulation that effectuates external civil rights requirements is contained in 38 CFR, part 18. The regulation provides that the responsible agency official or designee shall, from time to time, review the practices of recipients to determine whether they are complying with the equal opportunity provisions. VA Form 20-8734 is used to gather information from post-secondary proprietary schools below college level. The information is used to assure that VA-funded programs are in compliance with equal opportunity laws. VA Form 20-8734a, is used to gather information from students and instructors at post-secondary proprietary schools below college level. The information is used to assure that participants have equal access to equal treatment in VA-funded programs.

The forms are used by Education Compliance Survey Specialists in VA field stations during regular scheduled educational compliance survey visits, as well as during investigations of equal opportunity complaints, to identify areas which may indicate whether there is disparate treatment of members of protected groups. The information obtained on these forms is analyzed and maintained on file at the regional office. If this information were not collected, VA would be unable to carry out the civil rights enforcement responsibilities established in the DOJ's guidelines and VA's regulations.

Affected Public: Business or other for-profit.

Estimated Annual Burden and Average Burden Per Respondent: Based on past experience, VBA estimates that 76 interviews will be conducted with recipients using VA Form 20-8734 at an average of 1 hour and 45 minutes per interview (133 hours). This includes one hour for an interview with the principal facility official, plus 45 minutes for reviewing records and reports and touring the facility. It is also estimated that 76 interviews will be conducted with students using VA Form 20-8734a at an average of 30 minutes per interview (38 hours) and with instructors at an average of 30 minutes per interview (38 hours) with a total of 76 hours. Interviews are also conducted with 76 students without instructors at an average time of 30 minutes. VBA estimates that it will take 1 hour to conduct an interview with the recipients (76 hours) and 30 minutes with the instructors (38 hours). The total number of hours for interviewing recipients and instructors is estimated at 114.

Frequency of Response: On occasion.

Estimated Number of Respondents: 228.

Dated: March 26, 2001.
By direction of the Secretary,
Donald L. Neilson,
Director, Information Management Service.

[FR Doc. 01-8956 Filed 4-10-01; 8:45 am]

BILLING CODE 8320-01-P